DEPARTMENT OF STATE

[Public Notice: 12692]

Certification Under Section 7045(b)(2)(A) of the Department of State, Foreign Operations, and Related Programs Appropriations Act, 2024 (Div. F, Pub. L. 118-47)

By virtue of the authority vested in me by section 7045(b)(2)(A) of the Department of State, Foreign Operations, and Related Programs Appropriations Act, 2024 (Div. F, Pub. L. 118-47), I hereby certify that the central government of El Salvador is:

i. combating corruption and impunity, including investigating and prosecuting government officials, military personnel, and police officers credibly alleged to be corrupt, and improving strategies to combat money laundering and other global financial crimes;

ii. implementing reforms, policies, and programs to strengthen the rule of law, including increasing the transparency of public institutions, strengthening the independence of judicial and electoral institutions, and improving the transparency of political campaign and political party financing;

iii. protecting the rights of human rights defenders, trade unionists, journalists, civil society groups, opposition political parties, and the independence of the media;

iv. providing effective and accountable law enforcement and security for its citizens, curtailing the role of the military in public security, and upholding due process of law;

v. implementing programs to reduce violence against women and girls;

vi. implementing policies to reduce poverty and promote economic growth and opportunity, including the implementation of reforms to strengthen educational systems, vocational training programs, and programs for at-risk youth;

vii. cooperating with the United States to counter drug trafficking, human trafficking and smuggling, and other transnational crime;

viii. cooperating with the United States and other governments in the region to facilitate the return, repatriation, and reintegration of migrants;

ix. taking demonstrable actions to secure national borders and stem mass migration, including by informing its citizens of the dangers of the journey to the southwest border of the United States and advancing efforts to combat crime and violence, build economic opportunity, improve government services, and protect human rights; and

x. implementing policies that improve the environment for businesses, including foreign businesses, to operate and invest, including executing tax reform in a transparent manner, ensuring effective legal mechanisms for reimbursements of tax refunds owed to United States businesses, and resolving disputes involving the confiscation of real property of United States entities.

This certification shall be published in the Federal Register and, along with the accompanying Memorandum of Justification, shall be reported to Congress.

Dated: March 25, 2025.
Marco Rubio,
Secretary of State.

[FR Doc. 2025-05662 Filed 4-1-25; 8:45 am]

BILLING CODE 4710-29-P